MILLENNIUM CHALLENGE CORPORATION

[MCC FR 05-10]

Extension of Comment Period on Interim Environmental Guidelines

AGENCY: Millennium Challenge Corporation.

SUMMARY: The Millennium Challenge Corporation (MCC) is extending until July 15, 2005, the period for interested persons to submit comments on the March 4, 2005 Notice of Interim Environmental Guidelines For Public Comment (Federal Register, Vol. 70, No. 42, pp. 10690-10693). In the March 4, 2005 Notice, MCC published the full text of its interim Environmental Guidelines and asked for public comments over a 90 day period. This period is being extended through July 15, 2005.

DATES: Submit comments before or by July 15, 2005.

FOR FURTHER INFORMATION CONTACT: Public comments should be submitted through the MCC Web site at http://www.mcc.gov or in writing addressed to: Public Comment on Environmental Guidelines, Millennium Challenge Corporation, 875 Fifteenth Street, NW., Washington, DC 20005.

Dated: June 24, 2005.
Frances C. McNaught,
Vice President, Domestic Relations, Millennium Challenge Corporation.

[FR Doc. 05-12893 Filed 6-29-05; 8:45 am]

BILLING CODE 9210-0L-P